ENVIRONMENTAL PROTECTION AGENCY

[FRL-8704-9]

Conference Call of the Total Coliform Rule Distribution System Advisory Committee—Notice of Public Conference Call

AGENCY: Environmental Protection Agency (EPA).

ACTION: Notice.

SUMMARY: Under Section 10(a)(2) of the Federal Advisory Committee Act, the United States Environmental Protection Agency (EPA) is giving notice of a conference call of the Total Coliform Rule Distribution System Advisory Committee (TCRDSAC). The purpose of this conference call is to discuss the Total Coliform Rule (TCR) revision and information about distribution systems issues that may impact water quality.

The TCRDSAC advises and makes recommendations to the Agency on revisions to the TCR, and on what information should be collected, research conducted, and/or risk management strategies evaluated to better inform distribution system contaminant occurrence and associated public health risks.

During this conference call the TCRDSAC will continue the Committee's discussions related to revisions to the draft Agreement in Principle (AIP), which includes recommended revisions to the TCR and recommendations for research and information collection to better understand and address possible public health impacts from potential degradation of drinking water quality in the distribution system.

DATES: The public conference call will be held on Wednesday, September 3, 2008 (1 p.m. to 4:30 p.m., Eastern Time (ET)). Attendees should register for the conference call to receive the call in information by calling Kate Zimmer at (202) 965-6387 or by e-mail to kzimmer@resolv.org no later than August 29, 2008.

FOR FURTHER INFORMATION CONTACT: For general information, contact Kate Zimmer of RESOLVE at (202) 965-6387. For technical inquiries, contact Sean Conley (conley.sean@epa.gov, (202) 564-1781), Standards and Risk Management Division, Office of Ground Water and Drinking Water (MC 4607M), Environmental Protection Agency, 1200 Pennsylvania Ave., NW., Washington, DC 20460; fax number: (202) 564-3767.

SUPPLEMENTARY INFORMATION: The conference call is open to the public. The Committee encourages the public's input and will accept written statements. Any person who wishes to file a written statement can do so before or after a Committee meeting or conference call. Written statements received by August 29, 2008, will be distributed to all members before any final discussion or vote is completed. Any statements received on or after August 30, 2008, will become part of the permanent meeting and conference call file and will be forwarded to the members for their information.

Special Accommodations

For information on access or accommodations for individuals with disabilities, please contact Crystal Rodgers-Jenkins at (202) 564-5275 or by e-mail at rodgers-jenkins.crystal@epa.gov. Please allow at least 10 days prior to the conference call to give EPA time to process your request.

Dated: August 8, 2008.
Cynthia Dougherty,
Director, Office of Ground Water and Drinking Water.

[FR Doc. E8-18834 Filed 8-13-08; 8:45 am]

BILLING CODE 6560-50-P